DEPARTMENT OF COMMERCE

Bureau of Industry and Security

Deemed Export Advisory Committee; Notice of Partially Closed Meeting

The Deemed Export Advisory Committee (DEAC) will meet in open sessions on January 22, 2007 from 8 a.m.-12 p.m. and January 23, 2007 from 8 a.m.-10 a.m. at the American Electronics Association, 5201 Great American Parkway, Suite 400, Santa Clara, CA 95054. The DEAC is a Federal Advisory Committee established in accordance with the requirements of the Federal Advisory Committee Act, as amended, 5 U.S.C. app.2. It advises the Secretary of Commerce on deemed export licensing policy. A tentative agenda of topics for discussion is listed below. While these topics will likely be discussed, this list is not exhaustive and there may be discussion of other related items during the public session.

January 22 and 23, 2007

Public Session

1. Introductory Remarks.

2. Current Deemed Export Control Policy Issues.

3. Technology Transfer Issues.

4. U.S. Industry Competitiveness.

5. U.S. Academic and Government Research Communities.

6. Industry, Academia and other Stakeholder Comments.

A limited number of seats will be available for the public session. Reservations will not be accepted. To the extent time permits, members of the general public may present oral statements to the DEAC. The general public may submit written statements at any time before or after the meeting. However, to facilitate distribution to DEAC members, BIS suggests that general public presentation materials or comments be forwarded before the meeting to Ms. Yvette Springer at Yspringer@bis.doc.gov or (202) 482-2813.

January 23, 2007

Closed Session

7. The DEAC will also meet in a closed session on Tuesday, January 23, 2007, from 10 a.m.-12 p.m. During the closed session, there will be discussion of matters determined to be exempt from the provisions relating to public meetings found in 5 U.S.C. app. 2 §§ 10(a)(1) and 10(a)(3). The Assistant Secretary for Administration formally determined on December 12, 2006, pursuant to Section 10(d) of the Federal Advisory Committee Act, as amended (5 U.S.C. app. 2 § (10)(d)), that the portion of the meeting concerning trade secrets and commercial or financial information deemed privileged or confidential as described in 5 U.S.C. 552b(c)(4) and the portion of the meeting concerning matters the disclosure of which would be likely to significantly frustrate implementation of an agency action as described in 5 U.S.C. 552b(c)(9)(B) shall be exempt from the provisions relating to public meetings found in 5 U.S.C. app. 2 §§ 10(a)(1) and 10(a)(3). All other portions of the DEAC meeting will be open to the public.

This action also discusses recent leadership changes within the DEAC. Originally, the Committee was formed with two co-chairmen, Robert Gates, who was then President of Texas A&M, and Norm Augustine, retired Chairman & CEO of Lockheed Martin. Subsequently, Gates was nominated by President Bush to serve as Secretary of Defense. The Senate confirmed Gates as Secretary of Defense on December 6, 2006. Upon confirmation, Gates resigned his position as co-chair and member of the DEAC.

In accordance with the DEAC's charter, the Secretary of Commerce has appointed Sean O'Keefe, Chancellor, Louisiana State University, and Ruth David, President and CEO, Analytic Services, Inc., to serve as vice-chairpersons. In their new roles, O'Keefe and David will assist Augustine the chairman, in formulating a comprehensive review of deemed export policies. The DEAC leadership comprises a unique and diverse set of experiences from industry, government and academia, and BIS expects that O'Keefe and David will contribute significantly to the DEAC in its preparation of recommendations.

For more information, please call Yvette Springer at (202) 482-2813.

Dated: December 28, 2006.
Yvette Springer,
Committee Liaison Officer.

[FR Doc. 06-9983 Filed 1-4-07; 8:45 am]

BILLING CODE 3510-JT-M